DEPARTMENT OF LABOR

Office of the Secretary

Submission for OMB Review: Comment Request

January 31, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: OSHA Strategic Partnership Program for Worker Safety and Health (OSPP).

OMB Number: 1218-0244.

Frequency: On occasion and Annually

Type of Response: Reporting.

Affected Public: Business or other for-profit and Federal Government.

Number of Respondents: 5,113.

Number of Annual Responses: 5,113.

Estimated Time Per Respondent: 11 hours.

Total Burden Hours: 57,923.

Total Annualized capital/startup costs: $0.

Total Annual Costs (operating/maintaining systems or purchasing services): $0.

Description: The agency requires OSPP information to monitor and to assess the impact of a partnership. An OSHA Strategic Partnership aims to have a measurable positive impact on workplace safety and health that goes beyond what historically has been achievable through traditional enforcement method and focus on individual worksites.

Darrin A. King,
Acting Departmental Clearance Officer.

[FR Doc. E6-1554 Filed 2-3-06; 8:45 am]

BILLING CODE 4510-26-P